DEPARTMENT OF JUSTICE

Antitrust Division

Notice Pursuant to the National Cooperative Research and Production Act of 1993—Aerospace Vehicle Systems Institute (“AVSI”) Cooperative

Notice is hereby given that, on March 14, 2002, pursuant to section 6(a) of the National Cooperative Research and Production Act of 1993, 15 U.S.C. 4301 et seg. (“the Act”), the Aerospace Vehicle Systems Institute (“AVSI”) Cooperative has filed written notifications simultaneously with the Attorney General and the Federal trade Commission disclosing changes in its membership and production status. The notifications were filed for the purpose of extending the Act's provisions limiting the recovery of antitrust plaintiffs to actual damages under specified circumstances. Specifically, Parker Hannifin Corporation, acting through its Parker Aerospace Division, Irvine, CA and Hamilton Sunstrand, acting through its Hamilton Sundstrand Aerospace Division, Rockford, IL have been dropped as parties to this venture.

Furthermore, the AVSI Cooperative intends to undertake the following joint research projects:

“Requirements Development for Web-Based Technical Publications”—To investigate how structured information management technology can facilitate the creation and dissemination of technical and maintenance documentation throughout the life cycle of an aerospace vehicle system or component.

“Mitigating Radiation Effects on Current and Future Avionics Systems”—To develop a set of guidelines to mitigate atmospheric radiation effects on current and future aircraft avionics systems and electronics devices.

“Methods to Account for Accelerated Semiconductor Device Wear Out”—To develop methods to evaluate mechanisms and accommodate the effects of accelerated semiconduct device wear out on avionics system design, production and support. This also includes developing methods to account for shorter lifetimes in avionics system safety and reliability analysis.

“Thermal Management of COTS Based Avionics”—To investigate methods to determine and satisfy thermal management requirements for avionics systems using current and future commercial off the shelf components and assemblies. This includes investigating new cooling techniques using both analytical and experimental methods to evaluate tradeoffs between functional and environmental control system requirements.

No other changes have been made in either the membership or planned activity of the group research project. Membership in this group research project remains open, and the AVSI Cooperative intends to file additional written notification disclosing all changes in membership.

On November 18, 1998, the AVSI Cooperative filed its original notification pursuant to section 6(a) of the Act. The Department of Justice published a notice in the Federal Register pursuant to section 6(b) of the Act on February 18, 1999 (64 FR 8123).

The last notification was filed with the Department on June 18, 2001. A notice was published in the Federal Register pursuant to section 6(b) of the Act on August 10, 2001 (66 FR 42237).

Constance K. Robinson,
Director of Operations, Antitrust Division.

[FR Doc. 02-9401 Filed 4-17-02; 8:45 am]

BILLING CODE 4410-11-M